DEPARTMENT OF TRANSPORTATION

Pipeline and Hazardous Materials Safety Administration

49 CFR Parts 192 and 195

[Docket No. PHMSA-2020-0086]

Pipeline Safety: Operator Qualification Frequently Asked Questions

AGENCY: Pipeline and Hazardous Materials Safety Administration (PHMSA), DOT.

ACTION: Notification and request for comments.

SUMMARY: PHMSA is making available for public comment a revised set of operator qualification frequently asked questions (FAQs) that will replace its current operator qualification FAQs. The proposed revisions will provide greater clarity regarding PHMSA's operator qualification regulations. The revised FAQs would replace current FAQs that are outdated or no longer relevant, and will ensure that each FAQ is tied to a specific regulatory requirement.

DATES: Individuals who are interested in submitting comments on the proposed revisions to the FAQs must do so by February 16, 2021.

ADDRESSES: You may submit comments identified by Docket No. PHMSA-2020-0086 by any of the following methods:

• E-Gov Web: http://www.regulations.gov. This site allows the public to enter comments on any Federal Register notice issued by any agency. Follow the online instructions for submitting comments.

• Mail: Comments may be submitted by mailing them to: U.S. Department of Transportation, Docket Management System—Docket Operations (M-30), 1200 New Jersey Avenue SE, Room W12-140, Washington, DC 20590-0001.

• Hand Delivery: Comments may be hand-delivered to the U.S. Department of Transportation at 1200 New Jersey Avenue SE, Room W12-140, Washington, DC 20590-0001, between 9 a.m. and 5 p.m. ET Monday through Friday, except federal holidays.

• Instructions: Identify Docket No. PHMSA-2020-0086 at the beginning of your comments. You must provide two copies of your comments if you submit by mail. If you would like confirmation that PHMSA received your comments, please include a self-addressed stamped postcard. Internet users should submit comments at https://www.regulations.gov.

• Privacy Act Statement: In accordance with 5 U.S.C. 553(c), the DOT solicits comments from the public to better inform its rulemaking process. The DOT posts these comments without edit, including any personal information the commenter provides, to https://www.regulations.gov, as described in the system of records notice (DOT/ALL-14 FDMS), which can be reviewed at https://www.dot.gov/privacy.

• Confidential Business Information: Confidential Business Information (CBI) is commercial or financial information that is both customarily and actually treated as private by its owner. Under the Freedom of Information Act (5 U.S.C. 552), CBI is exempt from public disclosure. If your comments in response to this document contain commercial or financial information that is customarily treated as private, that you actually treat as private, and that is relevant or responsive to this document, it is important that you clearly designate the submitted comments as CBI. Pursuant to 49 CFR 190.343, you may ask PHMSA to provide confidential treatment to information you give to the agency by taking the following steps: (1) Mark each page of the original document submission containing CBI as “Confidential;” (2) send PHMSA a copy of the original document with the CBI deleted along with the original, unaltered document; and (3) explain why the information you are submitting is CBI. Unless you are notified otherwise, PHMSA will treat such marked submissions as confidential under the Freedom of Information Act and they will not be placed in the public docket of this notification. Submissions containing CBI should be sent to James Reynolds, 1200 New Jersey Avenue SE, E24-452, Washington, DC 20590-0001, or emailed to James.Reynolds@dot.gov. Any commentary PHMSA receives that is not specifically designated as CBI will be placed in the public docket for this guidance.

• Docket: For access to the docket or to read background documents or comments, go to https://www.regulations.gov. Alternatively, you may review the documents in person at the U.S. Department of Transportation at 1200 New Jersey Avenue SE, Room W12-140, Washington, DC 20590-0001, between 9 a.m. and 5 p.m. ET Monday through Friday, except federal holidays.

FOR FURTHER INFORMATION CONTACT: General: James Reynolds, General Engineer, Office of Pipeline Safety, by phone at (202) 366-2786 or via email at James.Reynolds@dot.gov. Technical: Gregory Ochs, Central Region Director, Office of Pipeline Safety, by phone at (816) 329-3814 or via email at Gregory.Ochs@dot.gov.

SUPPLEMENTARY INFORMATION: PHMSA uses FAQs and other guidance materials to clarify the Federal pipeline safety regulations (PSRs) found in 49 CFR parts 190-199. PHMSA-developed FAQs include operator qualification FAQs that address the PSRs in 49 CFR part 192, subpart N, and 49 CFR part 195, subpart G. These FAQs are currently available at https://www.phmsa.dot.gov/pipeline/operator-qualifications/oq-frequently-asked-questions.

PHMSA proposes revisions to the operator qualification FAQs by modifying and eliminating some of the current FAQs. PHMSA requests public comment on the proposed revisions, which were developed by a team of PHMSA operator qualification subject matter experts (SMEs). The proposed revisions are intended to tie each FAQ to a specific operator qualification regulatory requirement and to eliminate obsolete FAQs.

PHMSA created these FAQs to help the regulated community better understand how to comply with the PSRs. Like all PHMSA guidance, FAQs are not rules, nor do they create legally enforceable rights, assign duties, or impose new obligations that are not contained in the existing regulations and standards. Pipeline operators must comply with the underlying safety standards referred to in the FAQs.

PHMSA's operator qualification PSRs are codified in 49 CFR part 192, subpart N, and 49 CFR part 195, subpart G. PHMSA originally developed pipeline operator qualification FAQs following a series of public meetings in 2003. The FAQs address PHMSA's operator qualification PSRs, which help to ensure that qualified individuals perform covered tasks on pipeline facilities and reduce the probability and consequences of pipeline incidents caused by human error. The PSRs state that each pipeline operator is responsible for developing and following an operator qualification program, establishing a covered task list that is applicable to their system, and defining the training and qualification requirements for personnel who perform covered tasks on pipeline facilities. Each operator is responsible for ensuring that its contractors and vendors comply with the requirements of the operator's qualification program.

PHMSA assembled a team of SMEs to develop the revised operator qualification FAQs based on the existing FAQs, the compliance questions received from operators and the public, and the requirements of the code. PHMSA SMEs reviewed the 63 current FAQs to determine whether any should be revised, added, or deleted. As a result of this review, PHMSA proposes publishing a total of 40 FAQs for public notice. The draft FAQs are available online on the Federal eRulemaking Portal, https://www.regulations.gov; search for Docket No. PHMSA-2020-0086. Once finalized, PHMSA will post the revised FAQs on its public website in place of the current FAQs.

Issued in Washington, DC, on January 5, 2021, under authority delegated in 49 CFR 1.97.
Alan K. Mayberry,
Associate Administrator for Pipeline Safety.

[FR Doc. 2021-00152 Filed 1-14-21; 8:45 am]

BILLING CODE 4910-60-P